DEPARTMENT OF JUSTICE

Notice of Lodging of Proposed Consent Decree Under the Clean Air Act

On July 27, 2016, the Department of Justice lodged a proposed Consent Decree with the United States District Court for the Eastern District of Tennessee in the lawsuit entitled United States and Knox County, Tennessee, Ex Rel, Lynne Liddington, Director Of Air Quality Management For Knox County, Tennessee v. Cemex Inc., et al., Civil Action No. 3:16-cv-471.

This case involves claims for alleged violations of the Prevention of Significant Deterioration (“PSD”) program of the Clean Air Act (“CAA”), CAA's Title V operating permit requirements, and related Tennessee and Texas state law requirements at Portland cement facilities in Knoxville, Tennessee and Odessa, Texas owned or operated by Cemex, Inc. or related corporate entities (collectively, “Cemex”). The complaint seeks injunctive relief for installation of control technology to reduce emissions of nitrogen oxides (NOX), civil penalties, and mitigation of past excess NOX emissions. The settlement resolves the liability at these facilities and also resolves similar potential liability at additional Cemex cement plants in New Braunfels, Texas, Louisville, Kentucky and Demopolis, Alabama, and requires Cemex to install pollution control equipment, agree to federally enforceable limits for NOX and SO2 emissions, pay $1,690,000 in civil penalties, and perform an environmental mitigation project.

The publication of this notice opens a period for public comment on the Consent Decree. Comments should be addressed to the Assistant Attorney General, Environment and Natural Resources Division, and should refer to United States and Knox County, Tennessee, Ex Rel, Lynne Liddington, Director Of Air Quality Management For Knox County, Tennessee v. Cemex Inc., et al., D.J. Ref. No. 90-5-2-1-09716. All comments must be submitted no later than thirty (30) days after the publication date of this notice. Comments may be submitted either by email or by mail:

To submit comments: | Send them to:
By e-mail | pubcomment-ees.enrd@usdoj.gov.
By mail | Assistant Attorney General, U.S. DOJ-ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ-ENRD, P.O. Box 7611, Washington, DC 20044-7611.

Please enclose a check or money order for $13.50 (25 cents per page reproduction cost) payable to the United States Treasury.

Henry Friedman,
Assistant Section Chief, Environmental Enforcement Section, Environment and Natural Resources Division.

[FR Doc. 2016-18161 Filed 8-1-16; 8:45 am]

BILLING CODE 4410-15-P